DEPARTMENT OF STATE

[Public Notice 4483]

Shipping Coordinating Committee; Notice of Meeting

The Shipping Coordinating Committee (SHC), through the Working Group on Radio Communications and Search and Rescue of the Subcommittee on Safety of Life at Sea, will conduct open meetings at 9 a.m. on Thursday, October 9, November 6, December 11, and January 29, 2004. The meetings will be held at the Department of Transportation Headquarters Building, 400 Seventh Street, SW., Washington, DC 20950. Call the point of contact below for room numbers. The purpose of the meeting is to prepare for the Eighth Session of the International Maritime Organization (IMO) Subcommittee on Radiocommunications and Search and Rescue (COMSAR), which is scheduled for the week of February 16-20, 2004, at IMO headquarters in London, England.

The primary matters to be considered are:

—Maritime Safety Information for GMDSS

—Development of a procedure for recognition of mobile satellite systems

—Revision of performance standards for NAVTEX equipment

—Emergency radiocommunications, including false alerts and interference

—Large passenger ship safety

—Issues related to maritime security

—Developments in maritime radiocommunication systems and technology, including long-range tracking

—Matters concerning Search & Rescue

—Planning for the 8th session of COMSAR

Members of the public may attend these meetings up to the seating capacity of the rooms. Interested persons may seek information, including meeting room numbers, by writing; Mr. Russell S. Levin, U.S. Coast Guard Headquarters, Commandant (G-SCT-2), Room 6509, 2100 Second Street, SW., Washington, DC 20593-0001, by calling: (202) 267-1389, or by sending Internet electronic mail to rlevin@comdt.uscg.mil and viewing http://www.navcen.uscg.gov/marcomms/imo/meetings.htm.

Dated: September 24, 2003.
Steven D. Poulin,
Executive Secretary, Shipping Coordinating Committee, Department of State.

[FR Doc. 03-25016 Filed 9-30-03; 8:45 am]

BILLING CODE 4710-07-P